DEPARTMENT OF TRANSPORTATION

Research and Special Programs Administration

[Docket RSPA-98-4957; Notice 04-04]

Renewal of Existing Information Collection

AGENCY: Research and Special Programs Administration, DOT.

ACTION: Request for Public Comments and OMB Approval.

SUMMARY: As required by the Paperwork Reduction Act of 1995, the Research and Special Programs Administration (RSPA) published a notice on January 13, 2004 (69 FR 2042) requesting public comments on a request for renewal of an information collection, Incorporation by Reference of Industry Standard on Leak Detection. This information collection requires hazardous liquid pipeline operators who have leak detection systems to maintain records of those systems. No comments were received. RSPA is now requesting OMB to approve renewal of this information collection and the public is offered another opportunity to comment.

DATES: Comments on this notice must be received no later than May 10, 2004 to be assured of consideration.

ADDRESSES: You must identify the docket number RSPA-98-4957, at the beginning of your comments. Comments should be mailed directly to Office of Information and Regulatory Affairs, Office of Management and Budget, 726 Jackson Place, NW., Washington, DC 20503, ATTN: Desk Officer for the Department of Transportation.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Marvin Fell, Office of Pipeline Safety, Research and Special Programs Administration, Department of Transportation, 400 Seventh Street, SW. Washington, DC 20950, (202) 366-6205 or by electronic mail at marvin.fell@rspa.dot.gov.

SUPPLEMENTARY INFORMATION: Title: Incorporation by Reference of Industry Standard on Leak Detection

OMB Number: 2137-0598.

Type of Request: Renewal of an existing information collection.

Respondents: Hazardous liquid pipeline operators that use computational pipeline monitoring systems (CPM) for leak detection.

Estimate of Burden: 2 hours per operator.

Estimated Number of Responses per Respondent: 1.

Estimated Total Burden: 100 hours.

Estimated Number of Respondents: 50.

Abstract: The hazardous liquid pipeline safety regulations at 49 CFR Part 195 do not require hazardous liquid pipeline operators to use software-based, CPM leak detection systems. However, if an operator does use CPM leak detection systems they must comply with the national consensus technical standard, American Petroleum Institute (API) 1130, as required at 49 CFR 195.134. This standard provides guidance for operating, maintaining, and testing CPM systems. Records documenting the operations, maintenance, and testing of CPM systems must be maintained by all hazardous liquid pipeline operators.

Comments are invited on: (a) The need for the proposed collection of information for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including the use of appropriate automated, electronic, mechanical, or other technological collection techniques.

Issued in Washington, DC on April 2, 2004.
Richard D. Huriaux,
Regulations Manager, Office of Pipeline Safety.

[FR Doc. 04-7964 Filed 4-7-04; 8:45 am]

BILLING CODE 4910-60-P